DEPARTMENT OF COMMERCE

International Trade Administration

[A-517-804]

Amended Final Determination and Termination of the Investigation of Sales at Less Than Fair Value: Certain Oil Country Tubular Goods From Saudi Arabia

AGENCY: Enforcement and Compliance, International Trade Administration, Department of Commerce.

SUMMARY: The Department of Commerce (the Department) received and reviewed a ministerial error allegation based on its Final Determination of the sales at less than fair value investigation of oil country tubular goods (OCTG) from Saudi Arabia.¹ Based on the analysis of this allegation, we made changes to the margin calculation for Jubail Energy Services Company (JESCO). Because the revised margin is de minimis, we are terminating this investigation and ordering termination of the suspension of liquidation. A discussion of the allegation and the final weighted-average dumping margin can be found below in the section entitled “Amended Final Determination.”

¹ See Certain Oil Country Tubular Goods From Saudi Arabia: Final Determination of Sales at Less Than Fair Value, 79 FR 41986 (July 18, 2014) (Final Determination).

DATES: Effective Date: August 19, 2014.

FOR FURTHER INFORMATION CONTACT: Jason Rhoads, AD/CVD Operations, Office VII, Enforcement and Compliance, International Trade Administration, U.S. Department of Commerce, 14th Street and Constitution Avenue NW., Washington, DC 20230; telephone: (202) 482-0123.

SUPPLEMENTARY INFORMATION:

Background

On July 10, 2014, the Department announced its Final Determination which was published in the Federal Register on July 18, 2014.² On July 21, 2014, JESCO submitted a ministerial error allegation pursuant to 19 CFR 351.224(c). On July 28, 2014, Petitioners submitted rebuttal comments.³ Based on the analysis of this allegation, we made changes to the margin calculation for JESCO.

² Id.

³ Boomerang Tube, Energex Tube, a division of JMC Steel Group, Northwest Pipe Company, Tejas Tubular Products, TMK IPSCO, and Welded Tube USA Inc. (collectively, the petitioners).

Period of Investigation

The period of investigation is July 1, 2012, through June 30, 2013.

Scope of the Investigation

The merchandise covered by this investigation is certain oil country tubular goods (OCTG), which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the investigation also covers OCTG coupling stock. For a complete description of the scope of the investigation, see Appendix I to this notice.

Amended Final Determination Margins

After analyzing the allegation and the submissions of the parties, we determine in accordance with section 735(e) of the Tariff Act of 1930, as amended, (the Act) and 19 CFR 351.224(e) that we made ministerial errors in the margin calculation for JESCO. For a detailed discussion of the ministerial error allegations and the Department's analysis, see Memorandum to Ronald K. Lorentzen, entitled “Ministerial Error Memorandum in the Less than Fair Value Investigation of Certain Oil Country Tubular Goods from Saudi Arabia,” dated concurrently with this notice. A list of the topics included in the Ministerial Error Memorandum is included as Attachment II to this notice. The Ministerial Error Memorandum is a public document and is on file electronically via Enforcement and Compliance's Antidumping and Countervailing Duty Centralized Electronic Service System (IA ACCESS). IA ACCESS is available to registered users at http://iaaccess.trade.gov and it is available to all parties in the Central Records Unit, room 7046 of the main Department of Commerce building. In addition, a complete version of the Ministerial Error Memorandum can be accessed directly at http://enforcement.trade.gov/frn/. The signed and electronic versions of the Ministerial Error Memorandum are identical in content.

We are amending the final determination of the antidumping duty investigation of OCTG from Saudi Arabia to reflect the correction of the above-cited ministerial error. As a result of correcting the ministerial error in the Final Determination, the revised final weighted-average dumping margins are as follows:

Exporter or producer | Weighted-average dumping margin
Jubail Energy Services Company | de minimis.
All Others | N/A.

Section 735(c)(5)(A) of the Act provides that the estimated “all others” rate shall be an amount equal to the weighted average of the weighted-average dumping margins calculated for the producers or exporters individually examined, excluding rates that are zero, de minimis or determined entirely under section 776 of the Act. Because we calculated a weighted-average dumping margin for the only mandatory respondent (JESCO) that was de minimis, we assigned no rate to all other producers and exporters.

Termination of Suspension of Liquidation

In accordance with sections 735(a)(4) and 735(c)(2)(A) and (B) of the Act, we will instruct U.S. Customs and Border Protection (CBP) to terminate the suspension of liquidation on all entries of OCTG from Saudi Arabia and to refund any cash deposits previously required under section 733(d)(1)(B) of the Act.

ITC Notification

In accordance with section 735(d) of the Act, we notified the ITC of our amended negative final determination.

Publication

This amended final determination is published in accordance with sections 735(d) and (e) of the Act.

Dated: August 11, 2014.
Ronald K. Lorentzen,
Acting Assistant Secretary for Enforcement and Compliance.

Appendix I

Scope of the Investigation

The merchandise covered by the investigation is certain oil country tubular goods (OCTG), which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the investigation also covers OCTG coupling stock.

Excluded from the scope of the investigation are: casing or tubing containing 10.5 percent or more by weight of chromium; drill pipe; unattached couplings; and unattached thread protectors.

The merchandise subject to the investigation is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to the investigation may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

The HTSUS subheadings above are provided for convenience and customs purposes only. The written description of the scope of the investigation is dispositive.

Appendix II

List of Topics Discussed in the Ministerial Error Memorandum

1. Summary

2. Background

3. Legal Authority

4. Analysis of Alleged Ministerial Error

a. The Department Incorrectly Calculated the Profit Rate for JESCO's Third Country Sales

5. Recommendation

[FR Doc. 2014-19673 Filed 8-18-14; 8:45 am]

BILLING CODE 3510-DS-P